DEPARTMENT OF ENERGY

Federal Energy Regulatory Commission

Notice of Commission Staff Attendance

The Federal Energy Regulatory Commission (Commission) hereby gives notice that members of the Commission's staff may attend the following meeting related to the transmission planning activities of the Northern Tier Transmission Group, whose members include NorthWestern Corporation, Deseret Generation & Transmission Cooperative, Inc., Portland General Electric Company, Idaho Power Company, PacifiCorp, and MATL LLP: ¹

¹ MATL LLP indicates that it will participate in NTTG beginning in March 2016. See MATL LLP, Transmittal, Docket No. ER16-778-000, at 1,7 (filed January 27, 2016).

Northern Tier Transmission Group Quarter 2 Stakeholder Meeting

June 28, 2016 10:00 a.m.—3:00 p.m. (MPT)

The above-referenced meeting will be held at: Boise Airport Conference Center, 3201 Airport Way, Suite 1000, Boise, ID 83705.

The above-referenced meeting is open to stakeholders.

Further information may be found at this link.

The discussions at the meeting described above may address matters at issue in the following proceeding:

Docket No. ER16-778, MATL LLP

For more information, contact Navin Shekar (navin.shekar@ferc.gov, 202-502-6297), or Penny Ince (penny.ince@ferc.gov, 202-502-6386) at the Office of Energy Market Regulation, Federal Energy Regulatory Commission.

Dated: June 23, 2016.
Kimberly D. Bose,
Secretary.

[FR Doc. 2016-15342 Filed 6-28-16; 8:45 am]

BILLING CODE 6717-01-P